DEPARTMENT OF HOMELAND SECURITY

Coast Guard

33 CFR Part 165

[Docket No. USCG-2023-0417]

Safety Zone; Annual Fireworks Displays Within the Sector Columbia River Captain of the Port Zone

AGENCY: Coast Guard, DHS.

ACTION: Notification of enforcement of regulation.

SUMMARY: The Coast Guard will enforce safety zone regulations at various locations in the Sector Columbia River Captain of the Port Zone from July 4, 2023 to July 22, 2023, to provide for the safety of life on navigable waters during fireworks displays. The regulation for fireworks displays within the Thirteenth Coast Guard District designates safety zones and identifies approximate dates for these events. Specific dates and times are identified in this notice. These regulations prohibit persons and vessels from being in the safety zones unless authorized by the Captain of the Port Sector Columbia River or a designated representative.

DATES: The regulations in 33 CFR 165.1315 will be enforced for the safety zones identified in the SUPPLEMENTARY INFORMATION section below for the dates and times specified.

FOR FURTHER INFORMATION CONTACT: If you have questions about this notice of enforcement, call or email LT Carlie Gilligan, Waterways Management Division, Sector Columbia River, Coast Guard; telephone 503-240-9319, email D13-SMB-MSUPortlandWWM@uscg.mil.

SUPPLEMENTARY INFORMATION: The Coast Guard will enforce safety zones in the table to 33 CFR 165.1315(a) for the following events during the designated enforcement periods within a 450-yard radius of the launch site at the listed locations. These safety zones are subject to enforcement at least 1 hour prior to the start and 1 hour after the conclusion of the events.

Table—Dates and Times of Enforcement of 33 CFR 165.1315 Safety Zones at Various Locations Within the Sector Columbia River Captain of the Port Zone in 2023
Event name | Event location | Date of event | Latitude | Longitude
Tri-City Chamber of Commerce Fireworks/River of Fire Festival | Kennewick, WA | July 4, 2023 9:30 to 11 p.m | 46°13′37″ N | 119°08′47″ W
City of St. Helens 4th of July Fireworks | St. Helens, OR | July 4, 2023 9:30 to 11 p.m | 45°51′54″ N | 122°47′26″ W
Toledo Summer Festival | Toledo, OR | July 15, 2023 9:30 to 11 p.m | 44°37′08″ N | 123°56′24″ W
Westport 4th of July | Westport, WA | July 4, 2023 9:30 to 11 p.m | 46°54′17″ N | 124°05′59″ W
Garibaldi Days Fireworks | Garibaldi, OR | July 22, 2023 9:30 to 11 p.m | 45°33′13″ N | 123°54′56″ W
Bald Eagle Days | Cathlamet, WA | July 15, 2023 9:30 to 11 p.m | 46°12′14″ N | 123°23′17″ W

All coordinates listed in the Table reference Datum NAD 1983.

During the enforcement periods, as reflected in § 165.1315(a), persons and vessels are prohibited from being in the regulated areas unless authorized by the Captain of the Port Sector Columbia River or a designated representative. In addition to this notice of enforcement in the Federal Register, the Coast Guard will provide notification of these enforcement periods via the Local Notice to Mariners and Broadcast notice to mariners.

Dated: May 30, 2023.
J.W. Noggle,
Captain, U.S. Coast Guard, Captain of the Port Sector Columbia River.

[FR Doc. 2023-11919 Filed 6-5-23; 8:45 am]

BILLING CODE 9110-04-P